ENVIRONMENTAL PROTECTION AGENCY

[FRL-6587-6]

Regulatory Reinvention (XL) Pilot Projects

AGENCY: Environmental Protection Agency (EPA).

ACTION: Notice to announce the signing of the International Paper Project XL Final Project Agreement.

SUMMARY: EPA is announcing the signing of the Project XL Final Project Agreement (FPA) for International Paper and the availability of the agreement and related documents.

DATES: The FPA was signed on 20 April 2000 in Jay, Maine.

ADDRESSES: To obtain a copy of the Final Project Agreement, Test Plan or Fact Sheet, contact: Chris Rascher, EPA New England, 1 Congress Street (SPP), Boston, Massachusetts, or Ted Cochin, U.S. EPA, 1200 Pennsylvania Avenue NW (Mail Code 1802), Washington, DC 20460. The FPA and related documents are also available via the Internet at the following location: http://www.epa.gov/ProjectXL. Public files on the project, including the FPA, are also available for review at the Town Hall, Town of Jay, Maine. Questions to EPA regarding the documents can be directed to Chris Rascher at (617) 918-1834 or Ted Cochin at (202) 260-0880. To be included on the International Paper Project XL mailing list about future public meetings, XL progress reports and other mailings from International Paper on the XL project, contact Kimberly Thompson, International Paper, Androscoggin Mill, 207-897-1554. For information on all other aspects of the XL Program contact Christopher Knopes at the following address: Office of Policy and Reinvention, United States Environmental Protection Agency, 1200 Pennsylvania Avenue, NW (Mail Code 1802), Washington, DC 20460. Additional information on Project XL, including documents referenced in this document, other EPA policy documents related to Project XL, regional XL contacts, application information, and descriptions of existing XL projects and proposals, is available via the Internet at http://www.epa.gov/projectxl/inter/page1.htm.

SUPPLEMENTARY INFORMATION: The Final Project Agreement (FPA) is a voluntary agreement developed by EPA, International Paper, the State of Maine, Town of Jay, and active stakeholders. Project XL, announced in the Federal Register on May 23, 1995 (60 FR 27282), gives regulated sources the flexibility to develop alternative strategies that will replace or modify specific regulatory requirements on the condition that they produce greater environmental benefits.

On February 15, 2000, EPA announced the availability of the draft FPA and Test Plan in the Federal Register (65 FR 7546) and requested comments by March 16, 2000. No comments were received as a result of the announcement.

International Paper will develop, test, and implement a computer model that can estimate pollutant emissions on a continuous basis. Currently, International Paper is required to measure some of these pollutants only once every year. If successfully developed and implemented, this computer model will provide the company and make available to the community, information on emissions that is continuous and reliable. To accomplish this, IP will be granted regulatory flexibility in two areas. The first is to allow potential minor exceedances above existing permit limits for the waste fuel incinerator to develop the computer model. However, as set forth more fully in the FPA, IP will offset any emission increases. The second area of flexibility will involve the frequency of stack testing and the replacement of continuous emission monitoring with the computer model, if the computer model proves successful.

Elizabeth Shaw,
Deputy Associate Administrator, Office of Reinvention Programs.

[FR Doc. 00-11143 Filed 5-3-00; 8:45 am]

BILLING CODE 6560-50-P